DEPARTMENT OF COMMERCE

National Oceanic and Atmospheric Administration

RIN 0648-XC342

Endangered and Threatened Species; Take of Anadromous Fish

AGENCY: National Marine Fisheries Service (NMFS), National Oceanic and Atmospheric Administration (NOAA), U.S. Department of Commerce.

ACTION: Notice of receipt of a permit application; request for comments.

SUMMARY: Notice is hereby given that NMFS has received an application for a permit (Permit 15610) to conduct research for scientific purposes from the Oregon State University, Department of Fisheries and Wildlife (OSU). The requested permit would affect the endangered Southern California (SC) Distinct Population Segment (DPS) of steelhead (Oncorhynchus mykiss). The public is hereby notified of the availability of the permit application for review and comment before NMFS either approves or disapproves the application.

DATES: Written comments on the permit application must be received at the appropriate address or fax number (see ADDRESSES) on or before December 14, 2012.

ADDRESSES: Written comments on the permit application should be sent to Matt McGoogan, Protected Resources Division, NMFS, 501 W. Ocean Blvd., Suite 4200, Long Beach, CA 90802. Comments may also be sent using email FRNpermits.1b@noaa.gov or fax (562.980.4027). The permit application is available for review, by appointment, at the foregoing address and is also available for review online at the Authorizations and Permits for Protected Species Web site at https://apps.nmfs.noaa.gov.

FOR FURTHER INFORMATION CONTACT: Matt McGoogan at phone number (562) 980-4026 or email: matthew.mcgoogan@noaa.gov.

Authority

Issuance of permits, as required by the Endangered Species Act of 1973 (16 U.S.C. 1531-1543) (ESA), is based on a finding that such permits: (1) are applied for in good faith; (2) would not operate to the disadvantage of the listed species which are the subject of the permits; and (3) are consistent with the purposes and policies set forth in Section 2 of the ESA. Authority to take listed species is subject to conditions set forth in the permits. Permits are issued in accordance with and are subject to the ESA and NMFS regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

OSU has applied for a permit (Permit 15610) to study steelhead in the Ventura River watershed in Ventura County, California. The primary objectives of this study are to (1) determine if population genetic structure exists in the steelhead and rainbow trout subpopulations in the Ventura Basin, (2) determine smoltification patterns of steelhead and rainbow trout in the Ventura Basin and influence between the two life history forms, and (3) determine downstream migration patterns for steelhead and rainbow trout and how those patterns may be influenced by environmental conditions. Research activities include (1) Monitoring water temperature, (2) capturing smolts and adult steelhead in a migrant trap at the Robles Diversion Dam, (3) capturing smolts and juvenile steelhead using a seine in the Ventura River estuary, (4) capturing smolts and juvenile steelhead by electrofishing pre-determined sample sites throughout the Ventura River watershed, (5) recording weight and length of smolts and juvenile steelhead, (6) removing tissue (gill and fin clip) samples from smolts and juvenile steelhead, (7) analyzing fin clips for genetic structure, (8) analyzing gill samples for ATPase (decomposition of adenosine triphosphate (ATP) into adenosine diphosphate and a free phosphate ion) as an indicator of smoltification, and (9) inserting Passive Integrated Transponder (PIT) tags into smolts and juvenile steelhead. Field activities for the proposed research will occur between December 2012 and May 2014. For the proposed study, OSU has requested non-lethal capture and release of up to 210 juvenile steelhead (30 juvenile steelhead from 7 different sites over the course of 1 year) for the purpose of genetic sampling (fin clip), the capture and release of up to 684 steelhead smolts (342 smolts annually over 2 years of sampling) and 304 juvenile steelhead (152 juvenile steelhead annually over 2 years of sampling) for the purpose of PIT tagging and tissue (gill/ATPase) sampling, capture and release of up to 10 adult steelhead (5 adults annually over 2 years of sampling) for genetic sampling (fin clip), and up to 40 tissue samples (fin clip) from adult steelhead carcasses (20 adult carcasses annually over 2 years of sampling). The unintentional lethal take that may occur as a result of research activities is a total of 9 juvenile steelhead and 16 steelhead smolts. Overall, no intentional lethal take of steelhead is expected in association with any aspect of these research activities. See the permit application for greater details on the study and related methodology.

Dated: November 8, 2012.
Angela Somma,
Chief, Endangered Species Division, Office of Protected Resources, National Marine Fisheries Service.

[FR Doc. 2012-27665 Filed 11-13-12; 8:45 am]

BILLING CODE 3510-22-P